DEPARTMENT OF HOMELAND SECURITY

Bureau of Customs and Border Protection

[CBP Decision 04-37]

CBP Decision; Recordation of Trade Name: “Joy Enterprises”

ACTION: Notice of application for recordation of trade name.

SUMMARY: Application has been filed pursuant to section 133.12, Customs Regulations (19 CFR 133.12), for the recordation under section 42 of the Act of July 5, 1946, as amended (15 U.S.C. 1124), of the trade name “Joy Enterprises”. The trade name is owned by Shell Stores Corporation d/b/a Joy Enterprises, a Florida corporation.

The application states that the trade name “Joy Enterprises” is used in connection with knives, outdoor and sport supplies, police and security equipment, gift and premium items, swords, daggers, scissors, multitools and key chains, which are manufactured in China, Taiwan, Japan, Spain, USA, Italy and Germany.

Applicant states that the trade name “Joy Enterprises” is customarily used apart from the complete business name Shell Stores Corporation. The applicant states that there are no foreign persons or business entities authorized or licensed to use the trade name.

Before final action is taken on the application, consideration will be given to any relevant data, views, or arguments, submitted in writing, by any person in opposition to the recordation of this trade name. Notice of the action taken on the application for recordation of this trade name will be published in the Federal Register.

DATES: Comments must be received on or before January 11, 2005.

ADDRESSES: Written comments should be addressed to U.S. Customs and Border Protection, Attention: Office of Regulations and Rulings, Intellectual Property Rights Branch, 1300 Pennsylvania Avenue, NW., (Mint Annex), Washington, DC 20229.

FOR FURTHER INFORMATION CONTACT: La Verne Watkins, Paralegal, Intellectual Property Rights Branch at (202) 572-8702.

Dated: November 1, 2004,
George Frederick McCray,
Chief, Intellectual Property Rights Branch.

[FR Doc. 04-24645 Filed 11-10-04; 8:45 am]

BILLING CODE 4820-02-P